DEPARTMENT OF ENERGY

Federal Energy Regulatory Commission

[IC07-574-001, FERC-574]

Commission Information Collection Activities, Proposed Collection; Comment Request; Extension

October 4, 2007.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission did not receive any comments in response to an earlier Federal Register notice of May 29, 2007 (72 FR 29489-29490) and has made this notification in its submission to OMB. Copies of the submission were also submitted to the commenters.

DATES: Comments on the collection of information are due by November 13, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-7345. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-574-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at 1-866-208-3676 or 202-502-6652 (e-mail at FERCOnlineSupport@FERC.gov), or the Public Reference Room at 202-502-8371, TTY 202-502-8659 (e-mail at public.referenceroom@ferc.gov).

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 574 “Gas Pipeline Certificates: Hinshaw Exemption.”

2. Sponsor: Federal Energy Regulatory Commission.

3. Control No. 1902-0116.

The Commission is now requesting that OMB approve and extend the expiration date for an additional three years with no changes to the existing collection. The information filed with the Commission is mandatory.

4. Necessity of the Collection of Information: Submission of the information is necessary for the Commission to carry out its responsibilities in implementing the statutory provisions of the sections 1(c), 4 and 7 of the Natural Gas Act (NGA) (15 U.S.C. 717-717w). Natural Gas pipeline companies file applications with the Commission furnishing information in order for a determination to be made as to whether the applicant qualifies for an exemption under the provisions of the Natural Gas Act (section 1(c)). If the exemption is granted, the pipeline is not required to file certificate applications, rate schedules, or any other application or forms prescribed by the Commission.

The exemption applies to companies engaged in the transportation or sale for resale of natural gas in interstate commerce if: (a) They receive gas at or within the boundaries of the state from another person; (b) such gas is transported, sold, consumed within such state; (c) the rates, service and facilities of such company are subject to regulation by a State Commission.

The Commission implements these filing requirements in the Code of Federal Regulations (CFR) under 18 CFR part 152.

5. Respondent Description: The respondent universe currently comprises 1 company (on average) subject to the Commission's jurisdiction.

6. Estimated Burden: 245 total hours, 1 respondent (average), 1 response per respondent, and 245 hours per response (rounded off and average time).

7. Estimated Cost Burden to respondents: 245 hours/2080 hours per years × $122,137 per year = $14,386. The cost per respondent is equal to $14,386.

Statutory Authority: Statutory provisions of sections 1(c), 4 and 7 of the Natural Gas Act (NGA) (15 U.S.C. 717-717w).

Kimberly D. Bose,
Secretary.

[FR Doc. E7-20286 Filed 10-15-07; 8:45 am]

BILLING CODE 6717-01-P